DEPARTMENT OF ENERGY

Federal Energy Regulatory Commission

[Docket Nos. CP97-319-004 and CP97-315-006]

ANR Pipeline Company, Independence Pipeline Company; Errata Notice

June 19, 2002.

On June 19, 2002, the Commission issued a notice of its June 26, 2002 meeting. Item No. C-8 lists “Docket No. CP97-319-004, ANR Pipeline Company”. Item No. C-8 should also include Docket No. CP97-315-006, Independence Pipeline Company.

Magalie R. Salas,
Secretary.

[FR Doc. 02-16151 Filed 6-26-02; 8:45 am]

BILLING CODE 6717-01-P